DEPARTMENT OF STATE

[Public Notice 6429]

Termination of Statutory Debarment Pursuant to Section 38(g)(4) of the Arms Export Control Act for Quality Aviation, Inc.

ACTION: Notice.

SUMMARY: Notice is hereby given that the Department of State has terminated the statutory debarment of Quality Aviation, Inc. pursuant to section 38(g)(4) of the Arms Export Control Act (AECA) (22 U.S.C. 2778).

DATES: Effective November 19, 2008.

FOR FURTHER INFORMATION CONTACT: David C. Trimble, Director, Office of Defense Trade Controls Compliance, Directorate of Defense Trade Controls, Bureau of Political-Military Affairs, Department of State (202) 663-2807.

SUPPLEMENTARY INFORMATION: Section 38(g)(4) of the AECA and section 127.11 of the International Traffic in Arms Regulations (ITAR) prohibit the issuance of export licenses or other approvals to a person if that person, or any party to the export, has been convicted of violating the AECA and certain other U.S. criminal statutes enumerated at section 38(g)(1) of the AECA and section 120.27 of the ITAR. A person convicted of violating the AECA is also subject to statutory debarment under section 127.7 of the ITAR.

In August 2001, Quality Aviation, Inc. was convicted of violating the AECA (U.S. District Court, Central District of California, Western Division—Los Angeles, 2:00-cr-00787-WDK-1). Based on this conviction, Quality Aviation, Inc. was statutorily debarred pursuant to section 38(g)(4) of the AECA and section 127.7 of the ITAR and, thus, prohibited from participating directly or indirectly in exports of defense articles and defense services. Notice of debarment was published in the Federal Register (68 FR 52436, September 3, 2003).

Section 38(g)(4) of the AECA permits termination of debarment after consultation with the other appropriate U.S. agencies and after a thorough review of the circumstances surrounding the conviction and a finding that appropriate steps have been taken to mitigate any law enforcement concerns. The Department of State has determined that Quality Aviation, Inc. has taken appropriate steps to address the causes of the violations and to mitigate any law enforcement concerns. Therefore, in accordance with section 38(g)(4) of the AECA, the debarment of Quality Aviation, Inc. is rescinded, effective November 19, 2008.

Dated: October 3, 2008.
Frank J. Ruggiero,
Assistant Secretary of State for Political-Military Affairs, Department of State.

[FR Doc. E8-27500 Filed 11-18-08; 8:45 am]

BILLING CODE 4710-25-P